DEPARTMENT OF HOUSING AND URBAN DEVELOPMENT

[Docket No. FR-5500-N-05]

Notice of Web Availability: Notice of Funding Availability (NOFA) for HUD's Fiscal Year (FY) 2011 Capital Fund Education and Training Community Facilities (CFCF) Program

AGENCY: Office of the Chief of the Human Capital Officer, HUD.

ACTION: Notice.

SUMMARY: HUD announces the availability on its Web site and Grants.gov, applicant information, submission deadlines, funding criteria, and other requirements for HUD's FY2011 Capital Fund Education and Training Community Facilities (CFCF) Program NOFA. Specifically, this NOFA announces the availability of approximately $15 million made available under the Department of Defense and Full-Year Continuing Appropriations Act, 2011, Public Law 112-10, enacted April 15, 2011.

The purpose of the Capital Fund Education and Training Community Facilities (CFCF) Program is to provide capital funding to PHAs for the construction, rehabilitation, or purchase of facilities to provide early childhood education, adult education, and/or job training programs for public housing residents based on an identified need. Additionally, PHAs may use CFCF program funding to rehabilitate existing community facilities that will offer comprehensive, integrated services to help public housing residents achieve better educational and economic outcomes resulting in long-term economic self-sufficiency.

The notice providing information regarding the application process, funding criteria and eligibility requirements, application and instructions can be found using the Department of Housing and Urban Development agency link on the Grants.gov/Find Web site at http://www.grants.gov/search/agency.do. A link to the funding opportunity is also available on the HUD Web site at http://portal.hud.gov/hudportal/HUD?src=/program_offices/administration/grants/fundsavail.

The link from the funds available page will take you to the agency link on Grants.gov. The Catalogue of Federal Domestic Assistance (CFDA) number for this program is 14.890. Applications must be submitted electronically through Grants.gov.

FOR FURTHER INFORMATION CONTACT: Questions regarding specific program requirements should be directed to the agency contact identified in the program NOFA. Program staff will not be available to provide guidance on how to prepare the application. Questions regarding the 2011 General Section should be directed to the Office of Grants Management and Oversight at (202) 708-0667 or the NOFA Information Center at 800-HUD-8929 (toll free). Persons with hearing or speech impairments may access these numbers via TTY by calling the Federal Information Relay Service at 800-877-8339.

Dated: June 10, 2011.
Barbara S. Dorf,
Director, Office of Departmental Grants Management and Oversight, Office of the Chief of the Human Capital Officer.

[FR Doc. 2011-15031 Filed 6-16-11; 8:45 am]

BILLING CODE 4210-67-P